DEPARTMENT OF ENERGY

[Project No. 13049-001]

Pacific Gas and Electric Company; Notice of Preliminary Permit Application Accepted for Filing and Soliciting Comments, Motions to Intervene, and Competing Applications

On January 31, 2011, Pacific Gas and Electric Company (PG&E) filed an application for a successive preliminary permit, pursuant to section 4(f) of the Federal Power Act (FPA), proposing to study the feasibility of developing incremental capacity at PG&E's licensed Rock Creek-Cresta Project (No. 1962), located on the North Fork Feather River upstream of Lake Oroville, near the towns of Belden, Tobin, and Storrie, in Plumas County, California. The sole purpose of a preliminary permit, if issued, is to grant the permit holder priority to file a license application during the permit term. A preliminary permit does not authorize the permit holder to perform any land-disturbing activities or otherwise enter upon lands or waters owned by others without the owners' express permission.

The proposed project would consist of the following: (1) A new single-unit powerhouse with a turbine and generator constructed on the right (west) abutment at the downstream side of the existing Rock Creek dam. The proposed project would have an expected capacity of 2.8 megawatts and an expected annual average energy production of 15 gigawatt-hours.

Applicant Contact: Mr. Randal S. Livingston, Vice President—Power Generation, Pacific Gas and Electric Company, 245 Market Street, MS N11E, P.O. Box 770000, San Francisco, CA 94177; phone: (415) 973-6950.

FERC Contact: Matt Buhyoff; phone: (202) 502-6824.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filing, documents may also be paper-filed. To paper-file, mail an original and seven copies to: Kimberly D. Bose, Secretary, Federal Energy Regulatory Commission, 888 First Street, NE., Washington, DC 20426.

More information about this project, including a copy of the application, can be viewed or printed on the “eLibrary” link of Commission's Web site at http://www.ferc.gov/docs-filing/elibrary.asp. Enter the docket number (P-1304913049-001) in the docket number field to access the document. For assistance, contact FERC Online Support.

Dated: February 25, 2011.
Kimberly D. Bose,
Secretary.

[FR Doc. 2011-4969 Filed 3-3-11; 8:45 am]

BILLING CODE 6717-01-P